DEPARTMENT OF DEFENSE

United States Marine Corps

Privacy Act of 1974; System of Records

AGENCY: United States Marine Corps, DoD.

ACTION: Notice to delete a records system.

SUMMARY: The U.S. Marine Corps (USMC) is deleting one system of records notice from its inventory of records systems subject to the Privacy Act of 1974, as amended (5 U.S.C. 552a).

DATES: The deletion will be effective on October 15, 2004 unless comments are received that would result in a contrary determination.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records system notices for records systems subject to the Privacy Act of 1974 (5 U.S.C. 552a), as amended, have been published in the Federal Register and are available from the address above.

The U.S. Marine Corps proposes to delete a system of records notice from its inventory of record systems subject to the Privacy Act of 1974 (5 U.S.C. 552a), as amended. the deletion is not within the purview of subsection (r) of the Privacy Act of 1974 (5 U.S.C. 552a), as amended, which requires the submission of new altered systems reports.

Dated: September 8, 2004.
L.M. Bynum,
Alternate OSD Federal Register Liaison Officer, Department of Defense.

MFD00009

System name:

Pay Vouchers for Marine Corps Junior Reserve Officer Training Course Instructors (February 22, 1993, 58 FR 10630).

Reason:

Records are now under the cognizance of the Defense Finance and Accounting Service (DFAS) and are being maintained under the DFAS Privacy Act system of records notice T1205, entitled “Junior Reserve Officer Training Corps Payment Reimbursement System”.

[FR Doc. 04-20726 Filed 9-14-04; 8:45 am]

BILLING CODE 5001-06-M